DEPARTMENT OF LABOR

Employee Benefits Security Administration

Advisory Council on Employee Welfare and Pension Benefit Plans, 140th Full Council Meeting; Notice of Meeting

Pursuant to the authority contained in Section 512 of the Employee Retirement Income Security Act of 1974 (ERISA), 29 U.S.C. 1142, the 140th open meeting of the full Advisory Council on Employee Welfare and Pension Benefit Plans will be held on November 7, 2007.

The meeting will run from 9 a.m. to approximately 4:30 p.m., with a break for lunch. The morning session will take place in C5515 Room 3, U.S. Department of Labor, 200 Constitution Avenue, NW., Washington, DC 20210. The afternoon session will take place in Room S-2508 at the same address, beginning at 2 p.m. The purpose of the open meeting is for the chairpersons of the three Advisory Council Working Groups to submit their findings and recommendations on their individual study topics for the full Advisory Council's review and acceptance, following which the Advisory Council will present the Working Group findings and recommendations to the Secretary of Labor.

Organizations or members of the public wishing to submit a written statement pertaining to any topic under consideration by the Advisory Council may do so by submitting 25 copies to Larry Good, Executive Secretary, ERISA Advisory Council, U.S. Department of Labor, Room N-5623, 200 Constitution Avenue, NW., Washington, DC 20210. Statements received on or before October 31, 2007 will be included in the record of the meeting. Individuals or representatives of organizations wishing to address the Advisory Council should forward their request to the Executive Secretary at the above address or via telephone at (202) 693-8668. Oral presentations will be limited to 10 minutes, but an extended statement may be submitted for the record. Individuals with disabilities who need special accommodations should contact Larry Good by October 31 at the address indicated in this notice.

Signed at Washington, DC this 16th day of October, 2007.
Bradford P. Campbell,
Assistant Secretary, Employee Benefits Security Administration.

[FR Doc. E7-20722 Filed 10-19-07; 8:45 am]

BILLING CODE 4510-29-P